DEPARTMENT OF HEALTH AND HUMAN SERVICES

Substance Abuse and Mental Health Services Administration

Center for Substance Abuse Prevention; Notice of Meeting

Pursuant to Public Law 92-463, notice is hereby given of the meeting of the Substance Abuse and Mental Health Services Administration's (SAMHSA) Center for Substance Abuse Prevention (CSAP) Drug Testing Advisory Board (DTAB) on July 12 and 13, 2011. The DTAB will convene in both open and closed sessions over these two days.

On July 13 from 10 a.m. to 12:30 p.m. E.D.T., the meeting will be open to the public to review public responses to SAMHSA's Request for Information on oral fluid as a potential alternative specimen under the Mandatory Guidelines for Federal Workplace Drug Testing Programs. In addition, the DTAB will deliberate and vote on proposed recommendations.

The public is invited to attend the open session in person or to listen via teleconference. Due to the limited seating space and call-in capacity, registration is requested. Public comments are welcome. To register, make arrangements to attend, obtain the teleconference call-in numbers and access codes, submit written or brief oral comments, or to request special accommodations for persons with disabilities, please register at the SAMHSA Advisory Committees' Web site at http://nac.samhsa.gov/Registration/meetingsRegistration.aspx or by contacting the CSAP DTAB Designated Federal Official, Dr. Janine Denis Cook (see contact information below).

On July 12 between 9 a.m.-4 p.m. E.D.T. and July 13 between 2 p.m. and 4 p.m. E.D.T., the Board will meet in closed session to discuss proposed revisions to the Mandatory Guidelines for Federal Workplace Drug Testing Programs. This portion of the meeting is closed as determined by the Administrator, SAMHSA, in accordance with 5 U.S.C. 552b(c)(9)(B) and 5 U.S.C. App. 2, Section 10(d).

Substantive program information, a summary of the meeting, and a roster of DTAB members may be obtained as soon as possible after the meeting, either by accessing the SAMHSA Advisory Committees' Web site, http://www.nac.samhsa.gov/DTAB/meetings.aspx, or by contacting Dr. Cook. The transcript for the open meeting will also be available on the SAMHSA Committee Web site within three weeks after the meeting.

Committee Name: Substance Abuse and Mental Health Services, Administration's Center for Substance Abuse Prevention Drug Testing, Advisory Board.

DATES/time/type: July 12, 2011 from 9 a.m. to 4 p.m. E.D.T.: CLOSED. July 13, 2011 from 10 a.m. to 12:30 p.m. E.D.T.: OPEN. July 13, 2011 from 2 p.m. to 4 p.m. E.D.T.: CLOSED.

Place: SAMHSA Office Building, Sugarloaf Conference Room, 1 Choke Cherry Road, Rockville, Maryland 20857.

Contact: Janine Denis Cook, PhD, Designated Federal Official, SAMHSA Drug Testing Advisory Board, 1 Choke Cherry Road, Room 2-1045, Rockville, Maryland 20857. Telephone: 240-276-2600, Fax: 240-276-2610, E-mail: janine.cook@samhsa.hhs.gov.

Dated: June 15, 2011.
Carol Rest-Mincberg,
Acting Division Director, Division of Workplace Programs, Center for Substance Abuse Prevention, Substance Abuse and Mental Health, Services Administration.

[FR Doc. 2011-15374 Filed 6-21-11; 8:45 am]

BILLING CODE 4162-20-P